DEPARTMENT OF ENERGY

Federal Energy Regulatory Commission

[Docket No. RP04-188-003]

Great Lakes Gas Transmission Limited Partnership; Notice of Compliance Filing

July 14, 2004.

Take notice that on July 8, 2004, Great Lakes Gas Transmission Limited Partnership (Great Lakes) tendered for filing as part of its FERC Gas Tariff, Second Revised Volume No. 1, the following tariff sheets, proposed to be effective April 1, 2004:

First Revised Sheet No. 50R

First Revised Sheet No. 50S

Great Lakes states that these tariff sheets are being filed to comply with the Commission's June 23, 2004 Order on Rehearing and Compliance, wherein the Commission accepted Great Lakes' tariff sheets as proposed in its April 30, 2004, compliance filing in Docket No. RP04-188-002, and granted, in part, and denied, in part, Great Lakes' request for rehearing in Docket No. RP04-188-001. Great Lakes states that it was directed to file revised tariff sheets within fifteen (15) days of the June 23 Order consistent with the Commission directives to provide objective criteria for evaluating the outlook and history of a shipper as part of its creditworthiness review, and notice to shippers of the basis for a non-creditworthy determination, as set forth in that Order.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1623 Filed 7-20-04; 8:45 am]

BILLING CODE 6717-01-P